NUCLEAR REGULATORY COMMISSION

[Docket Nos. 50-266 and 50-301]

Wisconsin Electric Power Company; Notice of Withdrawal of Application for Amendment to Facility Operating License

The U.S. Nuclear Regulatory Commission (the Commission) has granted the request of Wisconsin Electric Power Company (the licensee) to withdraw its February 28, 1998, application for amendments to Facility Operating License Nos. DPR-24 and DPR-27 for the Point Beach Nuclear Plants, Units 1 and 2, respectively, located in Two Rivers, Wisconsin.

The proposed amendments would have modified the following six Technical Specification sections: (1) 15.3.6, “Containment System,” bases; (2) 15.3.12, “Control Room Emergency Filtration,” including bases; (3) 15.4.4, “Containment Tests,” bases; (4) 15.4.11 “Control Room Emergency Filtration,” including bases; (5) 15.6.8, “Plant Operating Procedures;” and (6) 15.6.12, “Containment Leakage Rate Testing Program.”

The Commission had previously issued a Notice of Consideration of Issuance of Amendment published in the Federal Register on July 15, 1998 (63 FR 38207). However, by letter dated August 17, 2000, the licensee withdrew the proposed changes.

For further details with respect to this action, see the application for amendments dated February 26, 1998, as supplemented July 12, 1999, and the licensee's letter dated August 17, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 22nd day of August 2000.
For the Nuclear Regulatory Commission.
Beth A. Wetzel,
Senior Project Manager, Project Directorate III, Division of Licensing Project Management, Office of Nuclear Reactor Regulation.

[FR Doc. 00-22156 Filed 8-29-00; 8:45 am]

BILLING CODE 7590-01-P